NATIONAL AERONAUTICS AND SPACE ADMINISTRATION

[Notice (02-059)]

NASA Advisory Council, Space Science Advisory Committee, Education and Public Outreach Task Force; Meeting

AGENCY: National Aeronautics and Space Administration (NASA).

ACTION: Notice of Meeting.

SUMMARY: In accordance with the Federal Advisory Committee Act, Public Law 92-463, as amended, the National Aeronautics and Space Administration announces a forthcoming meeting of the NASA Advisory Council (NAC), Space Science Advisory Committee (SScAC), Education and Public Outreach (E/PO) Task Force.

DATES: Tuesday, June 11, 2002, 9:00 a.m. to 5:00 p.m., and Friday, June 14, 2002, 1:00 p.m. to 5:00 p.m.

ADDRESSES: Union League Club of Chicago, 65 West Jackson Boulevard, Chicago, Illinois 60604.

FOR FURTHER INFORMATION CONTACT: Dr. Jeffrey D. Rosendhal, Code S, National Aeronautics and Space Administration, Washington, DC 20546, (202) 358-2470.

SUPPLEMENTARY INFORMATION: The meeting will be open to the public up to the capacity of the room. The agenda for the meeting includes the following topics:

—Discussion with OSS E/PO Broker/Facilitators

—Discussion with OSS E/PO Forum Leads

—General Discussion

—Work Assignments

It is imperative that the meeting be held on these dates to accommodate the scheduling priorities of the key participants. Visitors will be requested to sign a visitor's register.

May 8, 2002.
Sylvia K. Kraemer,
Advisory Committee Management Officer, National Aeronautics and Space Administration.

[FR Doc. 02-12627 Filed 5-20-02; 8:45 am]

BILLING CODE 7510-01-P